DEPARTMENT OF LABOR

Mine Safety and Health Administration

Proposed Extension of Existing Information Collection; Automatic Fire Sensor and Warning Device Systems; Examination and Test Requirements

ACTION: Notice of request for public comments.

SUMMARY: The Mine Safety and Health Administration (MSHA) is soliciting comments concerning the proposed extension of an existing information collection, OMB Control Number 1219-0145. This information collection was originally titled Safety Standards Regarding Technical Study Panel Recommendations on the Utilization of Belt Air and the Composition and Fire Retardant Properties of Belt Materials in Underground Coal Mining. OMB 1219-0145 has been renamed Automatic Fire Sensor and Warning Device Systems; Examination and Test Requirements to reflect that the information collection is only for extending the approval of the information collection related to 30 CFR §§ 75.1103-8(b) and (c). MSHA expects to subsume these provisions into OMB 1219-0054, Fire Protection (Underground Coal Mines) when that package is renewed in January 2013. No provisions will then remain in OMB 1219-0145 and the package will be discontinued.

Other provisions of the original OMB 1219-0145 package have been subsumed into existing information collection packages as follows:

• OMB 1219-0009 subsumed § 48.27(a) Training of miners assigned to a task in July 2011;

• OMB 1219-0073 subsumed § 75.1103-5(a)(2)(ii) Automatic fire sensor and warning device systems and the package is at OMB for its 3-year review;

• OMB 1219-0088 subsumed §§ 75.350(a)(2), 75.350(b), 75.350(b)(7), 75.350(b)(8), 75.350(d)(1), and 75.350(e)(1)(v) Belt air course ventilation; § 75.351(e)(1)(v) Atmospheric monitoring systems (AMS); §§ 75.370(a)(3) and (f) Mine ventilation plan submission and approval; §§ 75.371(jj), 75.371(mm), 75.371(nn), and 75.371(yy) Mine ventilation plan contents; § 75.380(f)(1) Escapeways; bituminous and lignite mines; § 75.381(e) Escapeways; anthracite mines; and § 75.1103-5(a) Automatic fire warning devices; actions, response in October 2010;

• OMB 1219-0127 subsumed § 75.156 AMS operator, qualifications and the package is at OMB for its 3-year review.

The Department of Labor, as part of its continuing effort to reduce paperwork and respondent burden conducts a pre-clearance consultation program to provide the general public and Federal and state agencies with an opportunity to comment on proposed or continuing collections of information in accordance with the Paperwork Reduction Act of 1995 (PRA95) [44 U.S.C. 3506(c)(2)(A)].

This program helps ensure that requested information collections are in formats appropriate to the mining community, that reporting is minimal, collection instruments are clearly understood, and that the impact of collection requirements can be properly assessed.

DATES: All comments must be received or postmarked by midnight Eastern Standard Time November 21, 2011.

ADDRESSES: Comments must be identified with “OMB Control Number 1219-00145” and may be sent to MSHA by any of the following methods:

• Federal E-Rulemaking Portal: http://www.regulations.gov. Follow the on-line instructions for submitting comments.

• Facsimile: 202-693-9441. Include “OMB 1219-00145” in the subject line of the message.

• Regular Mail: MSHA, Office of Standards, Regulations, and Variances, 1100 Wilson Boulevard, Room 2350, Arlington, Virginia 22209-3939.

• Hand Delivery or Courier: MSHA, Office of Standards, Regulations, and Variances, 1100 Wilson Boulevard, Room 2350, Arlington, Virginia. Sign in at the receptionist's desk on the 21st floor.

Information Collection Requirements:

Comments concerning the information collection requirements of this proposed rule must be clearly identified with “OMB 1219-00145” and sent to both the Office of Management and Budget (OMB) and MSHA.

• Comments to OMB may be sent by mail addressed to the Office of Information and Regulatory Affairs, Office of Management and Budget, New Executive Office Building, 725 17th Street, NW., Washington, DC 20503, Attn: Desk Officer for MSHA.

• Comments to MSHA may be sent by any of the methods listed above for comments on the public comment version of this information collection package.

FOR FURTHER INFORMATION CONTACT: Roslyn B. Fontaine, Acting Director, Office of Standards, Regulations, and Variances, MSHA, at fontaine.roslyn@dol.gov (e-mail); 202-693-9440 (voice); or 202-693-9441 (facsimile).

SUPPLEMENTARY INFORMATION:

I. Background

The requirements related to OMB 1219-0145 are intended to help protect miners by assuring that MSHA inspectors can verify that automatic fire sensor and warning device systems are maintained and calibrated and will function properly when needed. Technical advances have made it practicable to automatically detect fires in mines and to warn miners, helping prevent deaths when a fire occurs. MSHA requires mine operators to ensure these protective sensors and devices operate as designed and contribute to improved miner safety.

II. Desired Focus of Comments

The Mine Safety and Health Administration (MSHA) is soliciting comments concerning the proposed extension of information collection related to automatic sensing systems and warning devices. MSHA is particularly interested in comments that:

• Evaluate whether the proposed collection of information is necessary for the proper performance of MSHA's functions, including whether the information has practical utility;

• Evaluate the accuracy of MSHA's estimate of the burden of the proposed collection of information, including the validity of the methodology and assumptions used;

• Suggest methods to enhance the quality, utility, and clarity of the information to be collected; and

• Address the use of appropriate automated, electronic, mechanical, or other technological collection techniques or other forms of information technology, (e.g., permitting electronic submissions of responses) to minimize the burden of the collection of information on those who are to respond.

A copy of the proposed information collection request can be obtained by contacting the employee listed in the ADDRESSES section of this notice or viewed on the internet by accessing the MSHA home page (http://www.msha.gov/) and selecting “Rules and Regs”, and then selecting “Fed Reg Docs.”

III. Current Actions

The information obtained from mine operators is used by MSHA during inspections to determine proper responsibility for compliance with safety and health standards.

Type of Review: Extension.

Agency: Mine Safety and Health Administration.

Title: Automatic Fire Sensor and Warning Device Systems; Examination and Test Requirements.

OMB Number: 1219-0145.

Affected Public: Business or other for-profit.

Cite/Reference/Form/etc: 30 CFR part 75.

Total Respondents: 890.

Frequency: Weekly.

Total Responses: 8,896.

Estimated Total Burden Hours: 1,818 hours.

Estimated Total Burden Cost: $154,785.

Comments submitted in response to this notice will be summarized and/or included in the request for Office of Management and Budget approval of the information collection request; they will also become a matter of public record.

Dated: September 15, 2011.
Patricia W. Silvey,
Certifying Officer.

[FR Doc. 2011-24095 Filed 9-19-11; 8:45 am]

BILLING CODE 4510-43-P